DEPARTMENT OF THE INTERIOR

Bureau of Land Management

[LLESJ02400-L16100000-DU0000-223L1109AF]

Notice of Intent To Amend the 1995 Florida Resource Management Plan and To Prepare an Associated Environmental Assessment

AGENCY: Bureau of Land Management, Interior.

ACTION: Notice of intent.

SUMMARY: In compliance with the National Environmental Policy Act of 1969 as amended (NEPA) and the Federal Land Policy and Management Act of 1976, as amended (FLPMA), the Bureau of Land Management (BLM) Southeastern States District Office, Flowood, Mississippi, intends to prepare a Resource Management Plan (RMP) Amendment to the 1995 Florida Approved RMP, with an associated Environmental Assessment (EA), to evaluate proposed future management guidance for the Jupiter Inlet Lighthouse Outstanding Natural Area (ONA). This notice announces the beginning of the scoping process to solicit public comments and identify potential issues for consideration in the EA. This notice also announces the beginning of the 30-day review of the proposed planning criteria the BLM would use in the analysis of the RMP Amendment, and calls for nominations for new proposals or modifications to the existing area of critical environmental concern (ACEC) within the Jupiter Inlet Lighthouse ONA.

DATES: Comments must be submitted in writing by February 22, 2022. The BLM will announce date(s), time(s), and detail(s) of any scoping meetings at least 15 days in advance through local news media, newspapers, social media channels, and the BLM website at: www.blm.gov/JupiterONA. The BLM must receive all comments prior to the close of the 30-day scoping period in order to include them in the analysis. We will provide additional opportunities for public participation as appropriate.

ADDRESSES: You may submit comments on issues and planning criteria related to the Florida RMP Amendment EA by any of the following methods:

• Florida RMP Amendment ePlanning website: https://eplanning.blm.gov/eplanning-ui/project/2002316/510;

• Mail: Program Manager, Jupiter Inlet Lighthouse ONA, Bureau of Land Management, 600 State Road 707, Unit B, Jupiter, Florida 33469; or

• Email: BLM_ES_JupiterONA@blm.gov.

Documents pertinent to this proposal may be examined online on the BLM ePlanning website provided above. The ePlanning site can also be accessed via links provided on the ONA official website here: www.blm.gov/JupiterONA.

FOR FURTHER INFORMATION CONTACT: Peter DeWitt, Program Manager; telephone: (561) 295-5955; email: BLM_ES_JupiterONA@blm.gov. Persons who use a telecommunications device for the deaf (TDD) may call the Federal Relay Service (FRS) at 1-800-877-8339 to contact Mr. DeWitt during normal business hours. The FRS is available 24 hours a day, 7 days a week, to leave a message. You will receive a reply during normal business hours.

SUPPLEMENTARY INFORMATION: The ONA was designated by Congress in 2008. It is a protected land area designation within the National Landscape Conservation System. This document provides notice that the BLM Southeastern States District intends to prepare an EA and RMP Amendment to the 1995 Florida RMP, exclusive to the ONA. The planning area is in Palm Beach County, Florida, and encompasses approximately 126 acres of both Federal and non-Federal surface lands that make up the ONA. The BLM, as directed by the Consolidated Natural Resources Act of 2008 (CNRA), manages the ONA in coordination with local partners to protect, preserve, and enhance the unique and nationally important historical, natural, cultural, scientific, educational, scenic, and recreational values at the ONA, with an emphasis on restoring native ecological systems. The proposed amendment will identify land management decisions for lands acquired within the planning area that currently have no land-use planning level decisions, evaluate land-use planning level decisions for recreation management, consider the availability of all or portions of the planning area for certain land-use authorizations, and evaluate the Jupiter Inlet tract ACEC decisions to address the need for the designation within the ONA.

The 54-acre ACEC was designated by the 1995 Florida RMP as relevant and important for wildlife and cultural resources. An ACEC Evaluation Report published in Volume 3 of the draft Southeastern States RMP/EIS on October 24, 2016, determined that the ACEC and an 83-acre expanded nomination area continue to meet the relevance and importance criteria. No further areas or configurations for ACECs applicable to the planning area have been identified from previous planning efforts or from pre-planning activities on the current land-use plan amendment effort. Both the existing ACEC and the expanded nomination area are wholly within the ONA boundaries.U.S.C

BLM identified preliminary issues for planning, which include: (1) Absence of land-use planning level guidance for the recreation and visitor services program; (2) necessity of, or lack thereof, special management for the existing ACEC or the expanded nomination area; and (3) availability of all or a portion of the ONA for issuing certain land-use authorizations. Public scoping is intended to determine relevant issues that will influence the scope of the EA, formulate alternatives, and guide the planning process.

Preliminary planning criteria include: (1) Comply with FLPMA, CNRA, and all other laws, regulations, and policies; (2) recognize valid existing rights and allow for appropriate partner uses consistent with applicable laws; (3) establish new land-use planning level guidance and identify existing guidance for managing the ONA; (4) strive to protect, conserve, and enhance the unique and nationally important values at the ONA with an emphasis on conservation; (5) provide the framework for accommodating visitors for a range of educational, interpretive, and passive recreational experiences while ensuring that the ONA is preserved; (6) remain fiscally responsible with reasonable and achievable management decisions; and (7) provide for safe facilities, infrastructure, and grounds that are compatible with achieving the resource objectives for the ONA.

You may submit comments on issues, planning criteria, the ACEC and its expanded nomination area, or new ACEC nominations in writing to the BLM at any public scoping meeting, or you may submit them to the BLM using one of the methods listed in the ADDRESSES section earlier. Comments must be submitted by the date identified in the DATES section earlier for consideration during the NEPA and land-use planning process. In accordance with FLPMA, the BLM will use and coordinate the NEPA scoping process to fulfill the public involvement process and compliance under Section 106 of the National Historic Preservation Act (NHPA) (16 U.S.C. 470(f)), pursuant to 36 CFR 800.2(d)(3). Information about historic and cultural resources within the area potentially affected by the proposed action will assist the BLM in identifying and evaluating impacts to such resources in the context of both NEPA and Section 106 of the NHPA.

The BLM will consult with Native American Tribes on a government-to-government basis in accordance with Executive Order 13175 and other policies. Tribal concerns, including potential impacts to cultural resources, will be given due consideration. Federal, State, and local agencies, along with Tribes and other stakeholders that may be interested in or affected by the proposed action that the BLM is evaluating, are invited to participate in the scoping process and, if eligible, may request to participate in the environmental analysis as a cooperating agency.

The BLM will evaluate identified issues and place them into one of three categories:

1. Issues to be resolved in the RMP Amendment,

2. Issues to be resolved through policy or administrative action, or

3. Issues beyond the scope of these plans.

The BLM will provide an explanation as to why an issue was placed in category two or three. The public is also encouraged to help identify any management questions and concerns that should be addressed in the RMP Amendment. The BLM will work collaboratively with interested parties to identify the management decisions that are best suited to local, regional, and national needs and concerns.

The BLM will use an interdisciplinary approach to develop the EA/RMP Amendment in order to consider the variety of resource issues and concerns identified. Specialists with expertise in National Conservation Lands, recreation and visitor services, archaeology, wildlife, and vegetation may be involved in the EA/RMP Amendment.

Before including your address, phone number, email address or other personal identifying information in your comment, you should be aware that your entire comment—including your personal identifying information—may be made publicly available at any time. While you can ask us in your comment to withhold your personal identifying information from public review, we cannot guarantee that we will be able to do so.

(Authority: 40 CFR 1501.9, 43 CFR 1610.2)

Mitchell Leverette,
BLM Eastern States State Director.

[FR Doc. 2022-01184 Filed 1-20-22; 8:45 am]

BILLING CODE 4310-JB-P